SUSQUEHANNA RIVER BASIN COMMISSION

Notice of Actions Taken at December 5, 2007 Meeting

AGENCY: Susquehanna River Basin Commission.

ACTION: Notice of commission actions.

SUMMARY: At its regular business meeting on December 5, 2007 in Lancaster, Pennsylvania, the Commission: (1) Recognized former Pennsylvania State Senator Noah Wenger and outgoing New York Alternate Member Scott Foti, (2) heard a report on hydrologic conditions in the basin, (3) adopted a final rule making action and a companion resolution regarding agricultural consumptive use, (4) approved a new aquifer testing guidance for project sponsors proposing groundwater withdrawals, (5) accepted the FY 2007 audit report, and (6) approved a grant and three contracts. The Commission also conducted a public hearing to approve certain water resources projects, to accept three settlement agreements, to deny a request for an administrative hearing, to extend two emergency water withdrawal certificates, and to adopt a revised project fee schedule. See the Supplementary Information section below for more details on these actions.

DATES: December 5, 2007.

ADDRESSES: Susquehanna River Basin Commission, 1721 N. Front Street, Harrisburg, PA 17102-2391.

FOR FURTHER INFORMATION CONTACT: Richard A. Cairo, General Counsel, telephone: (717) 238-0423; ext. 306; fax: (717) 238-2436; e-mail: rcairo@srbc.net or Deborah J. Dickey, Secretary to the Commission, telephone: (717) 238-0422, ext. 301; fax: (717) 238-2436; e-mail: ddickey@srbc.net. Regular mail inquiries may be sent to the above address.

SUPPLEMENTARY INFORMATION: The final rule making action amends the consumptive use provisions of 18 CFR part 806 relating to agricultural water use and Part 808 relating to an erroneous authority citation, and a companion resolution determines that certain projects supported by the Commission's member states provide sufficient mitigation for agricultural consumptive use. Also, the Commission approved a grant for Chesapeake Bay nutrient monitoring and contracts for the development of a Yield Analysis Tool, the production of New York State inundation maps, and the commencement of a comprehensive water resources study for the Morrison Cove area of the Juniata Subbasin.

The Commission also convened a public hearing and took the following actions:

Public Hearing—Projects Approved

1. Project Sponsor and Facility: Village of Waverly (Well 4), Tioga County, NY. Modification of groundwater approval (Docket No. 20030207).

2. Project Sponsor and Facility: Sno Mountain LLC, Scranton City, Lackawanna County, PA. Application to transfer approvals for surface water withdrawal of 7.300 mgd and consumptive water use of up to 1.600 mgd (Docket No. 20030405).

3. Project Sponsor: Graymont (PA) Inc. Project Facility: Pleasant Gap Facility, Spring Township, Centre County, PA. Modification of consumptive water use approval (Docket No. 20050306).

4. Project Sponsor: Glenn O. Hawbaker, Inc. Project Facility: Pleasant Gap Facility, Spring Township, Centre County, PA. Modification of consumptive water use approval (Docket No. 20050307).

5. Project Sponsor: Parkwood Resources, Inc. Project Facility: Cherry Tree Mine, Burnside Township, Indiana and Clearfield Counties, PA. Application for consumptive water use of up to 0.225 mgd.

6. Project Sponsor and Facility: Mountainview Thoroughbred Racing Association, Inc., East Hanover Township, Dauphin County, PA. Modification of consumptive water use approval (Docket No. 20020819).

7. Project Sponsor and Facility: King Drive Corp., Middle Paxton Township, Dauphin County, PA. Modification of consumptive water use approval (Docket No. 20020615).

8. Project Sponsor and Facility: York Plant Holding LLC, Springettsbury Township, York County, PA. Application for consumptive water use of up to 0.575 mgd.

Public Hearing—Enforcement Actions Approved:

Settlement agreements were accepted for the following projects:

1. Project Sponsor and Facility: Cooperstown Dreams Park, Inc. (Docket No. 20060602), Town of Hartwick, Otsego County, NY.

2. Project Sponsor: Sand Springs Development Corp. (Docket No. 20030406). Project Facility: Sand Springs Golf Community, Butler Township, Luzerne County, PA.

3. Project Sponsor and Facility: BC Natural Chicken, LLC (Docket No. 20040305), Bethel Township, Lebanon County, PA.

Public Hearing—Denial of Request for Administrative Hearing:

Under Section 808.2 of the Commission's Regulation relating to administrative appeals, the Commission denied a request for an administrative hearing concerning the following project: Project Sponsor—PPL Susquehanna, LLC; Project Facility—Susquehanna Steam Electric Station, Salem Township, Luzerne County, PA. (Docket No. 19950301).

Public Hearing—Extension of Emergency Water Withdrawal Certificates:

Emergency water withdrawal certificates were extended for the following projects:

1. Project Sponsor and Facility: City of Lock Haven, Wayne Township, Clinton County, PA.

2. Project Sponsor and Facility: Houtzdale Municipal Authority (Docket No. 19950101), Rush Township, Centre County, PA.

Public Hearing—Fee Schedule Revision

The Commission adopted a revised project fee schedule that includes categorical fee adjustments for inflation and the addition of a fee category for withdrawals of less than 100,000 gpd involving a consumptive use. The revised schedule takes effect on January 1, 2008 and remains in effect until December 31, 2008.

Authority: Public Law 91-575, 84 Stat. 1509 et seq., 18 CFR Parts 806, 807, and 808.

Dated: December 13, 2007.
Thomas W. Beauduy,
Deputy Director.

[FR Doc. E7-25112 Filed 12-26-07; 8:45 am]

BILLING CODE 7040-01-P